FEDERAL ELECTION COMMISSION

Sunshine Act Notices

AGENCY: Federal Election Commission.

Date and Time: Thursday, January 29, 2009, at 10 a.m.

Place: 999 E Street, NW., Washington, DC (Ninth Floor).

Status: This meeting will be open to the public.

Items to be Discussed: Correction and Approval of Minutes.

Draft Advisory Opinion 2008-20: National Right to Life Committee, Inc., by James Bopp, Jr., Esquire.

Draft Advisory Opinion 2008-22: Senator Frank Lautenberg and Lautenberg for Senate, by Marc E. Elias, Esquire.

Report of the Audit Division on the Missouri Democratic State Committee.

Explanation and Justification for Final Rules on Reporting Contributions Bundled by Lobbyists, Registrants, and the PACs of Lobbyists and Registrants.

Management and Administrative Matters.

Individuals who plan to attend and require special assistance, such as sign language interpretation or other reasonable accommodations, should contact Mary Dove, Commission Secretary, at (202) 694-1040, at least 72 hours prior to the hearing date.

Person to Contact for Information: Judith Ingram, Press Officer, Telephone: (202) 694-1220.

Mary W. Dove,
Secretary of the Commission.

[FR Doc. E9-1747 Filed 1-27-09; 8:45 am]

BILLING CODE 6715-01-M